DEPARTMENT OF COMMERCE

National Oceanic and Atmospheric and Administration

[Docket No: 061005254-6254-01]

Request for Information (RFI) From Commercial Sources on Positioning, Navigation, and Timing

AGENCY: National Oceanic and Atmospheric Administration, Department of Commerce.

ACTION: Notice.

SUMMARY: The National Oceanic and Atmospheric Administration (NOAA) is issuing this RFI on behalf of the National Security Space Office (NSSO) to solicit information on Positioning, Navigation, and Timing (PNT) to assist NSSO in developing an evolutionary path for a robust National PNT architecture for the 2025 time period in cooperation with the Department of Transportation and other relevant government organizations. The NSSO is developing the architecture in response to tasking from the National Space-Based PNT Executive Committee, chaired by the Deputy Secretary of Defense and the Deputy Secretary of Transportation. The goal is to develop a long-term PNT investment strategy and framework to enable robust PNT capabilities needed by the U.S. Government, its allies, and commercial users.

DATES: Please contact Shawn Brennan at (571) 432-1486, as soon as you receive this notice or by November 1, 2006 if you are interested in presenting at either of the three meetings that are being set aside for presentations by interested organizations. The first meeting will be on October 10-12, 2006. The second meeting will be on October 17-18, 2006, and the third meeting will be on November 7-8, 2006. Each meeting will consist of a thirty-minute presentation to be followed by a thirty-minute question and answer period; classified meetings will be held on the final day of each period, if required. If follow-up trips or visits to an organization's location are warranted (e.g., demonstrations), they can be arranged during or after the presentations.

ADDRESSES: The meeting locations are:

1. The first meeting will be at National Security Space Office in Fairfax, Virginia.

2. The second meeting will be in El Segundo, California, at Aerospace Corporation.

3. The third meeting will be at National Security Space Office in Fairfax, Virginia.

NSSO welcomes the attendance from members of the public, but for security reasons, the location of the meetings will not be disclosed until the interested individual has passed the security clearance protocol.

FOR FURTHER INFORMATION CONTACT: Shawn Brennan, 571 432-1486.

SUPPLEMENTARY INFORMATION: NOAA is issuing this RFI on behalf of the NSSO to solicit information regarding PNT to assist NSSO in developing an evolutionary path for a robust National PNT architecture for the 2025 time period in cooperation with the Department of Transportation and other relevant government organizations. The NSSO is developing the architecture in response to tasking from the National Space-Based PNT Executive Committee, chaired by the Deputy Secretary of Defense and the Deputy Secretary of Transportation. The goal is to develop a long-term PNT investment strategy and framework to enable robust PNT capabilities needed by the U.S. Government, its allies, and commercial users. The scope of the architecture includes all PNT-related needs and capabilities, including orientation, and is not limited to space-based capabilities. This RFI seeks information which will help the NSSO team assess PNT capabilities employed, planned, or proposed by national security, civil, and commercial organizations. Of particular interest are innovative practices, concepts, standards, technologies, non-material applications, and associated commercial architectures. Note “the Government” as referred to in these questions includes all executive branch elements, besides the Department of Defense and the Department of Transportation. Specific questions are:

a. Characterize and evaluate customers of PNT needs.

b. What improvements to PNT capabilities are planned in these areas?

1. Space-based capabilities.

2. Terrestrial capabilities.

3. Enabling capabilities.

4. Non-material aspects including policies, procedures, and operations concepts.

c. What standards are being considered for development, establishment, or implementation of PNT capabilities?

d. What technologies can be used to achieve, maintain, or improve PNT capabilities? What is the practical limit of such technologies?

e. What technologies offer high payoff for future PNT capabilities, including those without current funding support or government sponsorship?

f. To what extent should autonomy or automation be implemented in ground and space systems to support PNT?

g. What PNT capabilities should the Government provide? Which commercial capabilities could enhance government-provided PNT capabilities?

h. What international cooperation should be pursued through the 2025 time frame to achieve needed PNT capabilities?

i. What interrelationships are desired with the Government through the 2025 time frame from a PNT perspective?

1. What PNT capabilities should the Government provide?

2. Describe any interest in providing selected PNT capabilities?

3. Describe any interest in providing a full range of PNT services to the Government?

j. What analytical tools or simulations are recommended for assessing the performance, cost, and utility associated with PNT capabilities?

k. Regarding current operations and activities,

1. List generally, any primary sources of PNT information. What alternative capabilities are available (if any)?

2. What if services providing PNT capabilities are interrupted. Characterize the response of organizations that provide PNT services to reported interruptions of service.

3. For what applications are PNT capabilities used? How critical are PNT capabilities to the success of your organization?

4. In general, do industry members manufacture PNT end-user equipment or do they purchase it? If purchased it, how do industry members make their needs known to the provider?

5. How is PNT information integrated with other capabilities or activities, e.g., terrestrial or space weather prediction and reporting, reference frame information, and imagery?

6. How can PNT service availability and quality be monitored (e.g., Notice to Mariners (NOTAMs), Notice to NAVSTAR Users (NANUs), and online Web sites)?

7. How are new PNT capabilities and technology applications disclosed?

8. In general, what are the most important attributes of PNT services (or combinations of services) to consumers (e.g., accuracy, availability, precision, and time)?

Responses should describe current PNT capabilities, anticipated changes in future levels of PNT and PNT-related needs and capabilities, and suggestions for architectural options to achieve needed PNT capabilities in the 2025 time frame. This RFI requests a 1-2 page abstract describing standard proposed discussions with the NSSO; NSSO will in turn provide a copy of the study Terms of Reference and a copy of an introductory briefing to the respondent's designated Point of Contact. This synopsis is for an RFI only and does not constitute a commitment on the part of the Government to purchase or acquire systems or services related to Positioning, Navigation, and Timing.

Dated: October 5, 2006.
Charles S. Baker,
Acting Deputy Assistant Administrator.

[FR Doc. E6-17021 Filed 10-12-06; 8:45 am]

BILLING CODE 3510-12-P